DEPARTMENT OF HEALTH AND HUMAN SERVICES

Centers for Disease Control and Prevention

[CDC-RFA-TP10-1001]

Notice of Intent To Award Affordable Care Act (ACA) Funding

AGENCY: Centers for Disease Control and Prevention (CDC), Department of Health and Human Services (HHS).

ACTION: Notice.

Overview Information

Notice of Intent to Award Affordable Care Act (ACA) funding to 7 Preparedness and Emergency Response Learning Centers (PERLC). This award was proposed in the grantees' Fiscal Year (FY) 2011 non-Competing Continuation applications under Funding Opportunity Announcement CDC-RFA-TP10-1001, “Preparedness and Emergency Response Learning Centers (PERLC).”

SUMMARY: This notice provides public announcement of CDC's intent to award Affordable Care Act (ACA) appropriations to the following 7 grantees: Columbia University Mailman School of Public Health, New York, NY; Johns Hopkins University, Baltimore, MD, Texas A&M School of Rural Public Health, College Station, TX; University at Albany SUNY School of Public Health, Albany, NY; University of Oklahoma College of Public Health, Oklahoma City, OK; University of South Florida College of Public Health, Tampa, FL.

The purpose of the PERLC program is to develop, deliver, and evaluate core competency-based training and education that target the public health workforce, address the public health preparedness and response needs of state, local, and tribal public health authorities and emphasize essential public health security strategies.

These activities are proposed by the above mentioned grantees in their FY 2011 application submitted under Funding Opportunity Announcement CDC-RFA-TP10-1001, “Preparedness and Emergency Response Learning Centers (PERLC),” Catalogue of Federal Domestic Assistance Number (CFDA): 93.069.

Approximately $5,000,000 in ACA funding will be awarded to the grantee for sustaining approved program activities. Funding is appropriated under the Affordable Care Act (Pub. L. 111-148), Section 4002 (42 U.S.C. 300u-11) (Prevention and Public Health Fund).

Accordingly, CDC adds the following information to the previously published Funding Opportunity Announcement of CDC-RFA-TP10-1001:

Authority: Sections 311 and 317(k)(2) of the Public Health Service Act, [42 U. S. C. Section 243 and 247b(k)(2)] as amended, Patient Protection and Affordable Care Act (ACA), Section 4002 (42 U.S.C. 300u-11). CFDA #: 93.606 (Affordable Care Act—Preparedness and Emergency Response Learning Centers).

Award Information

Type of Award: Non-Competing Continuation Cooperative Agreement.

Approximate Total Current Fiscal Year ACA Funding: $5,000,000.

Anticipated Number of Awards: 7.

Fiscal Year Funds: 2011.

Anticipated Award Date: September 30, 2011.

Application Selection Process

Funding will be awarded to applicant based on documentation and results from successful past performance review.

Funding Authority

CDC will add the ACA Authority to that which is reflected in the published Funding Opportunity Announcement CDC-RFA-TP10-1001. The revised funding authority language will read:

This program is authorized under the Sections 311 and 317(k)(2) of the Public Health Service Act, [42 U. S. C. 243 and 247b(k)(2)] as amended, Patient Protection and Affordable Care Act (ACA), Section 4002 (42 U.S.C. 300u-11).

DATES: The effective date for this action is the date of publication of this Notice and remains in effect until the expiration of the project period of the ACA funded applications.

FOR FURTHER INFORMATION CONTACT: Joan P. Cioffi, PhD, Associate Director, Learning Office and Program Official for Preparedness and Emergency Response Learning Centers (PERLC), Office of Public Health Preparedness and Response, Centers for Disease Control and Prevention, telephone 404-639-0641. jcioffi@cdc.gov.

SUPPLEMENTARY INFORMATION: On March 23, 2010, the President signed into law the Affordable Care Act (ACA), Public Law 111-148. ACA is designed to improve and expand the scope of health care coverage for Americans. Cost savings through disease prevention is an important element of this legislation and ACA has established a Prevention and Public Health Fund (PPHF) for this purpose. Specifically, the legislation states in Section 4002 that the PPHF is to “provide for expanded and sustained national investment in prevention and public health programs to improve health and help restrain the rate of growth in private and public sector health care costs.” ACA and the Prevention and Public Health Fund make improving public health a priority with investments to improve public health.

The PPHF states that the Secretary shall transfer amounts in the Fund to accounts within the Department of Health and Human Services to increase funding, over the fiscal year 2008 level, for programs authorized by the Public Health Service Act, for prevention, wellness and public health activities including prevention research and health screenings, such as the Community Transformation Grant Program, the Education and Outreach Campaign for Preventative Benefits, and Immunization Programs.

Therefore, increasing funding available to applicants under this FOA using the PPHF will allow them to sustain their existing to provide for a national investment in prevention and public health programs. Further, The Secretary allocated funds to CDC, pursuant to the PPHF, for the types of activities this FOA is designed to carry out.

Dated: August 16, 2011.
Tanja Popovic,
Deputy Associate Director for Science, Centers for Disease Control and Prevention.

[FR Doc. 2011-24750 Filed 9-26-11; 8:45 am]

BILLING CODE 4163-18-P